DEPARTMENT OF AGRICULTURE

Forest Service

Apalachicola National Forest; Florida; City of Tallahassee 230kV Southwestern Transmission Line

AGENCY: Forest Service, USDA.

ACTION: Notice of intent to prepare an environmental impact statement.

SUMMARY: The U.S. Forest Service, Apalachicola National Forest intends to prepare an environmental impact statement under a 3rd party agreement with the City of Tallahassee, Florida to issue a special use authorization for the construction, occupancy and use of national forest system land for a 230kV electric transmission line. The addition of an east-west 230kV transmission line would connect the Hopkins—Crawfordville 230kV transmission line south of the Tallahassee Regional Airport (near the intersection of Springhill and Bice Roads), with the existing Substation BP-5 (southeast of the Capital Circle S.W./Woodville Highway intersection). The proposed transmission line would be approximately 8 miles long with approximately 6.4 miles located within the Apalachicola National Forest. The transmission line would parallel the existing Florida Gas Transmission Company's natural gas lines from the Hopkins—Crawfordville line until the forest boundary south of Substation BP-5. Once off the forest it would parallel an existing 115kV electric transmission line to its terminus at Substation BP-5.

DATES: Comments concerning the scope of the analysis must be received by November 19, 2010 in order to be considered in the Draft Environmental Impact Statement. A Draft Environmental Impact Statement is expected in April 2011. A Final Environmental Impact Statement is expected in October 2011. A Public Workshop will be held in Tallahassee, Florida on October 28, 2010.

ADDRESSES: Send written comments to Susan Jeheber-Matthews, Forest Supervisor, National Forests in Florida, 325 John Knox Road Suite F-100, Tallahassee, FL 32303. Comments may also be sent via e-mail to comments-southern-florida@fs.fed.us., or via facsimile to (850) 523-8505.

FOR FURTHER INFORMATION CONTACT: Harold Shenk, U.S. Forest Service, 57 Taff Drive, Crawfordville, FL 32327. Telephone; (850) 926-3561.

Individuals who use telecommunication devices for the deaf (TDD) may call the Federal Information Relay Service (FIRS) at 1-800-877-8339 between 8 a.m. and 8 p.m., Eastern Time, Monday through Friday.

SUPPLEMENTARY INFORMATION:

Purpose and Need for Action

The North American Electric Reliability Corporation (NERC) is the electric reliability organization certified by the Federal Energy Regulatory Commission (FERC) to develop and enforce Reliability Standards for the bulk power system. NERC Transmission Planning Standards (TPL Standards 001-004) identify the mandatory planning standards that electric utilities must follow to ensure that reliable systems are developed that meet specified performance requirements.

The City conducts annual studies to evaluate the reliability of the bulk transmission system under a variety of contingencies that ensure the system meets the NERC standards. Recent studies have identified that the existing electric transmission network needs to be modified to ensure continued compliance with the NERC reliability planning standards.

Absent system improvements, the reliable delivery of power from the City's generating facilities and imported power via ties with other utilities to all customers cannot be ensured in the future under certain contingencies. The loss of multiple transmission lines due to a single event on a common right of way would cause other lines on the system to be overloaded. An additional electric transmission delivery path from east to west was identified as the means by which the City can maintain the ability to supply projected customer demands and wholesale transmission services into the future as required by the NERC Standards.

The proposed 230kV Transmission Line would provide enhanced system benefits that will meet the NERC mandated requirements and will improve system performance to the general public. These benefits include: (1) Improved system reliability over a broader range of contingencies & longer duration as a result of providing an additional delivery path from generation sources and interconnections with other utilities to customers; (2) improved power transfer (east to west) as a result of the reduced losses associated with higher voltage transmission lines; and (3) address reliability concerns regarding the ability to supply future customer demands should one or more of the current east to west delivery paths become unavailable due to an equipment fault or failure.

Proposed Action

The Proposed Action is to issue a special use authorization for the construction, occupancy and use of a 230kV electric transmission line on approximately 6.4 miles of national forest system lands on the Apalachicola National Forest. The proposed electric transmission line would connect the Hopkins-Crawfordville 230kV line south of the Tallahassee Regional Airport (near the intersection of Springhill and Bice Roads), with the existing Substation BP-5 (southeast of the Capital Circle SW. and Woodville Highway intersection). The proposed transmission line would be approximately 8 miles long with approximately 6.4 miles located within the Apalachicola National Forest.

The proposed transmission line would be located adjacent to an existing utility corridor currently under a U.S. Forest Service Special Use Permit with the Florida Gas Transmission Company. The proposed transmission line would increase the existing 80 foot-wide Florida Gas corridor by an additional 60 feet. The additional corridor would occur within the temporary work space previously created by the Florida Gas Transmission Company and documented in the January 11, 2010 Record of Decision, Special Use Permit, Florida Gas Transmission Company, Phase VIII Expansion Project. The Proposed Action would also include the development of a new tap point on the Hopkins-Crawfordville line.

Possible Alternatives

Two additional routes were evaluated during development of the proposed transmission line. The first alternative route follows Springhill Road, passes through a smaller undisturbed area of the Apalachicola National Forest, and then parallels Capital Circle SW. The second route, consisting of a minor deviation of the first route, would follow Springhill Road all the way to Capital Circle SW., reducing impact to the national forest, but would not meet FAA safety regulations (FAR Part 77) for structure height near the runway at the Tallahassee Regional Airport.

Responsible Official

Susan Jeheber-Matthews, Forest Supervisor, 325 John Knox Road, Suite F-100, Tallahassee, FL 32303.

Nature of Decision To Be Made

The Forest Service will decide whether or not to issue a special use authorization for the construction, occupancy and use of a 230kV electric transmission line on approximately 6.4 miles of national forest system lands on the Apalachicola National Forest and conditions there of.

Permits or Licenses Required

Leon County Environmental Management Permit.

Florida Department of Environmental Protection, National Discharge Elimination permit.

Scoping Process

This notice of intent initiates the scoping process, which will guide the development of the environmental impact statement. A Public Workshop will be held in Tallahassee, Florida on October 28, 2010 (Woodville Elementary School Cafeteria, 9373 Woodville Highway, 5-7 p.m.) to provide citizens an opportunity to learn about the project and to provide comments. Letters requesting comments on the proposed action will be mailed to the public involvement mailing list for the Apalachicola National Forest and local citizens that may be affected by the project.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered; however, anonymous comments will not provide the Agency with the ability to provide the respondent with subsequent environmental documents.

Dated: October 7, 2010.
Susan Jeheber-Matthews,
Forest Supervisor.

[FR Doc. 2010-25825 Filed 10-13-10; 8:45 am]

BILLING CODE 3410-11-P